NATIONAL SCIENCE FOUNDATION

Proposal Review Panel for Materials Research; Notice of Meeting

In accordance with the Federal Advisory Committee Act (Pub. L. 92-463 as amended), the National Science Foundation announces the following meeting:

Names: Proposal Review Panel for Materials Research—Materials Research Science & Engineering Centers Site Visit, Brandeis University (V160684) #1203.

Dates & Times: March 22, 2016; 9:00 a.m. EST-5:00 p.m. EST.

Place: Brandeis University, Waltham, MA, 02453.

Type of Meeting: Part-Open.

Contact Person: Dr. Daniele Finotello, Program Director, Materials Research Science & Engineering Centers, MRSEC. Division of Materials Research, Room 1065, National Science Foundation, 4201 Wilson Boulevard, Arlington, VA 22230, Telephone (703) 292-4676.

Purpose of Meeting: NSF site visit to provide advice and recommendations concerning further NSF support for the Center.

Agenda

Tuesday, March 22, 2016

8:45am-9:00am: Informal Meeting NSF PDs & MRSEC Director (CLOSED)

9:00am-9:05am: Introductions

9:05am-10:05am: Brandeis MRSEC Overview (Fraden)

10:05am-10:25am: Coffee Break

10:25am-11:25am: IRGs & SEEDs

11:25am-11:55pm: Education and Outreach

12:00pm-1:05pm: Lunch with MRSEC students and postdocs

1:10pm-2:15pm: Shared Experimental Facilities Tour

2:15pm-3:00pm: NSF Panel Caucus (CLOSED)

3:00pm-3:30pm: NSF debrief MRSEC Executive Committee (CLOSED)

Reason for Closing: The work being reviewed include information of a proprietary or confidential nature, including technical information; financial data, such as salaries and personal information concerning individuals associated with the proposals. These matters are exempt under 5 U.S.C. 552b(c), (4) and (6) of the Government in the Sunshine Act.

Dated: February 18, 2016.
Crystal Robinson,
Committee Management Officer.

[FR Doc. 2016-03876 Filed 2-23-16; 8:45 am]

BILLING CODE 7555-01-P